DEPARTMENT OF STATE

[Public Notice 9031]

Overseas Schools Advisory Council; Renewal of Committee Charter

AGENCY: Department of State.

ACTION: Notice of renewal of an advisory committee charter.

Renewal of Advisory Committee: The Secretary of State announces the renewal of the charter of the Overseas Schools Advisory Council in accordance with the Federal Advisory Committee Act.

Purpose: The main objectives of the Council are:

(a) To advise the Department of State regarding matters of policy and funding for the overseas schools.

(b) To help the overseas schools become showcases for excellence in education.

(c) To help make service abroad more attractive to American citizens who have school-age children, both in the business community and in Government.

(d) To identify methods to mitigate risks to American private sector interests worldwide.

FOR FURTHER INFORMATION CONTACT: Keith Miller, Deputy Assistant Secretary for Operations and Executive Secretary of the Council at (202) 647-3427.

Dated: January 28, 2015.
Keith Miller,
Assistant Secretary for Operations.

[FR Doc. 2015-02257 Filed 2-4-15; 8:45 am]

BILLING CODE 4710-24-P